SOCIAL SECURITY ADMINISTRATION

[Docket No: SSA-2017-0017]

Agency Information Collection Activities: Proposed Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget, Attn: Desk Officer for SSA, Fax: 202-395-6974, Email address: OIRA_Submission@omb.eop.gov.

(SSA)

Social Security Administration, OLCA, Attn: Reports Clearance Director, 3100 West High Rise, 6401 Security Blvd., Baltimore, MD 21235, Fax: 410-966-2830, Email address: OR.Reports.Clearance@ssa.gov.

Or you may submit your comments online through www.regulations.gov, referencing Docket ID Number [SSA-2017-0017].

The information collections below are pending at SSA. SSA will submit them to OMB within 60 days from the date of this notice. To be sure we consider your comments, we must receive them no later than June 12, 2017. Individuals can obtain copies of the collection instruments by writing to the above email address.

1. Disability Case Development Information Collections By State Disability Determination Services On Behalf of SSA—20 CFR, subpart P, 404.1503a, 404.1512, 404.1513, 404.1514, 404.1517, 404.1519; 20 CFR subpart Q, 404.1613, 404.1614, 404.1624; 20 CFR subpart I, 416.903a, 416.912, 416.913, 416.914, 416.917, 416.919 and 20 CFR subpart J, 416.1013, 416.1014, 416.1024—0960-0555. State Disability Determination Services (DDS) collect the information necessary to administer the Social Security Disability Insurance and Supplemental Security Income (SSI) programs. They collect medical evidence from consultative examination (CE) sources; credential information from CE source applicants; and medical evidence of record (MER) from claimants' medical sources. The DDSs collect information from claimants regarding medical appointments, pain, symptoms, and impairments. The respondents are medical providers, other sources of MER, and disability claimants.

Type of Request: Revision of an OMB-approved information collection.

CE Collections

There are three CE information collections: (a) Medical evidence about claimants' medical condition(s) the DDSs use to make disability determinations when the claimant's own medical sources cannot, or will not, provide the required information, and proof of credentials from CE providers; (b) CE appointment letters; and (c) CE claimant reports sent to claimants' doctors.

Medical Evidence and Credentials From CE Providers
Modality of completion | Number of respondents | Frequency of response | Average burden per response (minutes) | Total estimated annual burden (hours)
CE Paper Submissions | 1,400,000 | 1 | 30 | 700,000
CE Electronic Submissions | 296,000 | 1 | 10 | 49,333
CE Credentials | 4,000 | 1 | 15 | 1,000
Totals | 1,700,000 |  |  | 750,333

CE Appointment Letters and CE Claimants' Report to Medical Providers
Modality of completion | Number of respondents | Frequency of response | Average burden per response (minutes) | Estimated annual burden (hours)
(b) CE Appointment Letters | 880,000 | 1 | 5 | 73,333
(c) CE Claimants' Report to Medical Providers | 450,000 | 1 | 5 | 37,500
Totals | 1,330,000 |  |  | 110,833

MER Collections

The DDSs collect MER information from the claimant's medical sources to determine a claimant's physical or mental status prior to making a disability determination.

Modality of completion | Number of respondents | Frequency of response | Average burden per response (minutes) | Total estimated annual burden (hours)
Paper Submissions | 3,150,000 | 1 | 20 | 1,050,000
Electronic Submissions | 9,450,000 | 1 | 12 | 1,890,000
Totals | 12,600,000 |  |  | 2,940,000

Pain/Other Symptoms/Impairment Information From Claimants

The DDSs use information about pain/symptoms to determine how pain and symptoms affect the claimant's ability to do work-related activities prior to making a disability determination.

Modality of completion | Number of respondents | Frequency of response | Average burden per response (minutes) | Total estimated annual burden (hours)
Pain/Other Symptoms/Impairment Information | 2,100,000 | 1 | 20 | 700,000

The total estimated annual burden for all categories described in this information collection is 4,501,166 hours.

2. Teacher Questionnaire and Request for Administrative Information—20 CFR 404.1513, 416.913, and 416.924a(a)—0960-0646. When determining the effects of a child's impairment(s), SSA obtains information about the child's functioning from teachers; parents; and others who observe the child on a daily basis. SSA obtains results of formal testing, teacher reports, therapy progress notes, individualized education programs, and other records of a child's educational aptitude and achievement using Forms SSA-5665-BK and SSA-5666. The respondents are parents, teachers, and other education personnel.

Type of Request: Revision of an OMB-approved information collection.

Modality of completion | Number of respondents | Frequency of response | Average burden per response (minutes) | Estimated total annual burden (hours)
SSA-5665-BK (electronic) | 293,375 | 1 | 40 | 195,583
SSA-5665 (paper form) | 0 | 1 | 40 | 0
SSA-5666 (electronic) | 111,189 | 1 | 30 | 55,595
Totals | 404,564 |  |  | 251,178

3. Generic Clearance for the Collection of Qualitative Feedback on Agency Service Delivery—0960-0788. As part of our continuing effort to reduce paperwork and respondent burden, SSA invites the general public to take this opportunity to comment on the “Generic Clearance for the Collection of Qualitative Feedback on Agency Service Delivery” for approval under the Paperwork Reduction Act (PRA) (44 U.S.C. 3501 et seq.). We developed this collection as part of a Federal Government-wide effort to streamline the process for seeking feedback from the public on service delivery. Under the auspices of Executive Order 12862, Setting Customer Service Standards, SSA conducts multiple satisfaction surveys each year. This proposed information collection activity provides a means to garner qualitative customer and stakeholder feedback in an efficient, timely manner, in accordance with SSA's commitment to improving service delivery. By qualitative feedback, we mean information that provides useful insights on perceptions and opinions, but are not statistical surveys that yield quantitative results that can be generalized to the population of study. This feedback will provide insights into customer or stakeholder perceptions; experiences and expectations; provide an early warning of issues with service; or focus attention on areas where communication; training; or changes in operations might improve delivery of products or services. These collections will allow for ongoing, collaborative, and actionable communications between SSA and our customers and stakeholders. The solicitation of feedback will target areas such as: Timeliness; appropriateness; accuracy of information; courtesy; efficiency of service delivery; and resolution of issues with service delivery. We will assess responses to plan and inform efforts to improve or maintain the quality of service offered to the public. If we do not collect this information, we would not have access to vital feedback from customers and stakeholders on SSA's services.

We will only submit a collection for approval under this generic clearance if it meets the following conditions: (1) The collections are voluntary; (2) the collections are low-burden for respondents (based on considerations of total burden hours, total number of respondents, or burden-hours per respondent) and are low-cost for both the respondents and the Federal Government; (3) the collections are non-controversial and do not raise issues of concern to other Federal agencies; (4) any collection targeted to the solicitation of opinions from respondents who have experience with the program or may have experience with the program in the near future; (5) we collect personally identifiable information (PII) only to the extent necessary and we do not retain it; (6) we will use information gathered only internally for general service improvement and program management purposes and we will not release it outside of the agency; (7) we will not use information we gather for the purpose of substantially informing influential policy decisions; and (8) information we gather will yield qualitative information; the collections will not be designed or expected to yield statistically reliable results or used as though the results are generalizable to the population of study.

Feedback collected under this generic clearance provides useful information, but it does not yield data that can be generalized to the overall population. We will not use this type of generic clearance for qualitative information collections designed to yield reliably actionable results, such as monitoring trends over time or documenting program performance. Such data uses require more rigorous designs that address the target population to which generalizations will be made; the sampling frame, the sample design (including stratification and clustering); the precision requirements or power calculations that justify the proposed sample size; the expected response rate, methods for assessing potential non-response bias; the protocols for data collection; and any testing procedures that were or will be undertaken prior to fielding the study. Depending on the degree of influence the results are likely to have, such collections may still be eligible for submission for other generic mechanisms designed to yield quantitative results. As a general matter, information collections will not result in any new system of records containing privacy information and will not ask questions of a sensitive nature, such as sexual behavior and attitudes, religious beliefs, and other matters commonly considered private.

The respondents are recipients of SSA services (including most members of the public), professionals, and individuals who work on behalf of SSA beneficiaries.

Type of Request: Revision of an OMB-approved information collection.

Affected Public: Individuals and households, businesses and organizations, State, Local or Tribal government.

Total Estimated Number of Respondents: 205,485.

Below we provide projected average estimates for the next three years:

Annual Respondents: 68,495.

Annual Responses: 68,495.

Frequency of Response: Once per request.

Average minutes per response: 18 minutes.

Estimated Annual Burden: 205,549 hours.

Dated: April 5, 2017.
Naomi R. Sipple,
Reports Clearance Officer, Social Security Administration.

[FR Doc. 2017-07174 Filed 4-10-17; 8:45 am]

BILLING CODE 4191-02-P